DEPARTMENT OF AGRICULTURE

Food Safety and Inspection Service

[Docket No. FSIS-2012-0009]

National Advisory Committee on Microbiological Criteria for Foods

AGENCY: Food Safety and Inspection Service, USDA.

ACTION: Notice of public meeting.

SUMMARY: This notice is announcing that the National Advisory Committee on Microbiological Criteria for Foods (NACMCF) will hold a meeting of the full Committee by an audio conference call that is open to the public on March 28, 2012. The Committee will discuss: Food Safety Questions from the United States Department of Agriculture (USDA) Agricultural Marketing Service to Support Ground Beef Purchase for the Federal Food and Nutrition Assistance Programs. Specifically NACMCF will address food safety questions to assist the 2012-2013 ground beef purchase for the School Lunch Program on microbiological criteria, pathogen testing methodology, and sampling plans.

DATES: The full Committee will hold a meeting by phone conference on Wednesday March 28, 2012, from 2 p.m. to 5 p.m. E.S.T.

ADDRESSES: The March 28, 2012, meeting will be held by phone. Please contact Karen Thomas-Sharp at the address below to register for the meeting:

USDA, FSIS, Office of Public Health Science, Stop 3777, Patriots Plaza 3, Floor 9-47, 1400 Independence Avenue SW., Washington, DC 20250, or by phone (202) 690-6620, fax (202) 690-6334, or email: Karen.thomas-sharp@fsis.usda.gov.

All documents related to the full Committee meeting will be available for public inspection in the FSIS Docket Room, USDA, at Patriots Plaza 3, 355 E. Street SW., Room 8-164, Washington, DC 20250 between 8:30 a.m. and 4:30 p.m., Monday through Friday, as soon as they become available. The NACMCF documents will also be available on the Internet at http://www.fsis.usda.gov/Regulations_&_Policies/Federal_Register_Notices/index.asp.

FSIS will finalize the agenda on or before the meeting and post it on the FSIS Web page at http://www.fsis.usda.gov/News/Meetings_&_Events/. Please note that the meeting agenda is subject to change due to the time required for Committee discussions; thus, sessions could end earlier or later than anticipated. Please plan accordingly if you would like to attend or participate in a public comment period.

The official meeting minutes of the March 28, 2012, full Committee meeting, when it becomes available, will be kept in the FSIS Docket Room at the above address and will also be posted on http://www.fsis.usda.gov/About/NACMCF_Meetings/.

FOR FURTHER INFORMATION CONTACT: Persons interested in registering to attend the meeting, making a presentation, submitting technical papers, or providing comments at the March 28, plenary session should contact Karen Thomas-Sharp, phone (202) 690-6620, fax (202) 690-6334, email: Karen.thomas-sharp@fsis.usda.gov or at the mailing address above. Persons requiring special accommodations for this phone conference (voice and TTY) should notify Ms. Thomas-Sharp by March 1, 2012.

SUPPLEMENTARY INFORMATION:

Background

The NACMCF was established in 1988, in response to a recommendation of the National Academy of Sciences for an interagency approach to microbiological criteria for foods, and in response to a recommendation of the U.S. House of Representatives Committee on Appropriations, as expressed in the Rural Development, Agriculture, and Related Agencies Appropriation Bill for fiscal year 1988. The charter for the NACMCF is available on the FSIS Web page at http://www.fsis.usda.gov/About/NACMCF_Charter/.

The NACMCF provides scientific advice and recommendations to the Secretary of Agriculture and the Secretary of Health and Human Services on public health issues relative to the safety and wholesomeness of the U.S. food supply, including development of microbiological criteria, as well as the review and evaluation of epidemiological and risk assessment data and methodologies for assessing microbiological hazards in foods. The Committee also provides scientific advice and recommendations to the Food and Drug Administration, the Centers for Disease Control and Prevention, and the Departments of Commerce and Defense.

Dr. Elisabeth A. Hagen, Under Secretary for Food Safety, USDA, is the Committee Chair; Mr. Michael Landa, Acting Director of the Food and Drug Administration's Center for Food Safety and Applied Nutrition (CFSAN), is the Vice-Chair; and Ms. Gerri Ransom, FSIS, is the Executive Secretary.

Documents Reviewed by NACMCF

FSIS will make all materials reviewed and considered by NACMCF regarding its deliberations available to the public. Generally, these materials will be made available as soon as possible after the full Committee meeting. Further, FSIS intends to make these materials available in electronic format on the FSIS Web page (www.fsis.usda.gov), as well as in hard copy format in the FSIS Docket Room. Often, an attempt is made to make the materials available at the start of the full Committee meeting when sufficient time is allowed in advance to do so.

Disclaimer: NACMCF documents and comments posted on the FSIS Web site are electronic conversions from a variety of source formats. In some cases, document conversion may result in character translation or formatting errors. The original document is the official, legal copy.

In order to meet the electronic and information technology accessibility standards in Section 508 of the Rehabilitation Act, NACMCF may add alternate text descriptors for non-text elements (graphs, charts, tables, multimedia, etc.). These modifications only affect the Internet copies of the documents.

Copyrighted documents will not be posted on the FSIS Web site, but will be available for inspection in the FSIS Docket Room.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/. Options range from recalls to export information to regulations, directives, and notices. Customers can add or delete subscriptions themselves, and have the option to password protect their accounts.

USDA Nondiscrimination Statement

USDA prohibits discrimination in all its programs and activities on the basis of race, color, national origin, gender, religion, age, disability, political beliefs, sexual orientation, and marital or family status (Not all prohibited bases apply to all programs).

Persons with disabilities who require alternative means for communication of program information (Braille, large print, and audiotape) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Done at Washington, DC, on February 28, 2012.
Alfred V. Almanza,
Administrator.

[FR Doc. 2012-5272 Filed 3-2-12; 8:45 am]

BILLING CODE 3410-DM-P